Presidential Determination No. 2006-4 of November 22, 2005

Presidential Determination Pursuant to Section 2(c)(1) of the Migration and Refugee Assistance Act of 1962, as Amended

Memorandum for the Secretary of State

Pursuant to section 2(c)(1) of the Migration and Refugee Assistance Act of 1962, as amended, 22 U.S.C. 2601(c)(1), I hereby determine that it is important to the national interest that up to $5 million be made available from the U.S. Emergency Refugee and Migration Assistance Fund to meet unexpected urgent humanitarian needs of refugees and other victims of the October 2005 earthquake in Pakistan. These funds may be used, as appropriate, to provide contributions to international, governmental, and nongovernmental organizations.

You are authorized and directed to inform the appropriate committees of the Congress of this determination and the obligation of funds under this authority, and to arrange for the publication of this memorandum in the Federal Register.

B

THE WHITE HOUSE,

Washington, November 22, 2005.

[FR Doc. 05-23540

Filed 11-29-05; 8:45 am]

Billing code 4710-10-P